DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of November 8, 2010 through November 12, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected workers in public agencies and a certification issued regarding eligibility to apply for worker adjustment assistance, each of the group eligibility requirements of Section 222(b) of the Act must be met.

(1) a significant number or proportion of the workers in the public agency have become totally or partially separated, or are threatened to become totally or partially separated;

(2) the public agency has acquired from a foreign country services like or directly competitive with services which are supplied by such agency; and

(3) the acquisition of services contributed importantly to such workers' separation or threat of separation.

In order for an affirmative determination to be made for adversely affected secondary workers of a firm and a certification issued regarding eligibility to apply for worker adjustment assistance, each of the group eligibility requirements of Section 222(c) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
73,353 | Federal-Mogul Products, Inc., Federal-Mogul Corporation, Leased Workers from Kelly Services | Smithville, TN | January 13, 2009.
73,900 | First American Title Insurance Company, Workers Wages Reported Under National Default Title Services; Leased Workers | Santa Ana, CA | April 9, 2009.
73,900A | First American Title Insurance Company, Workers Wages Reported Under National Default Title Services; Leased Workers | Waterloo, IA | April 9, 2009.
74,203 | Titan Tire Corporation, Division of Titan International, Inc. | Bryan, OH | May 20, 2009.
74,278 | St. Joseph Industries, Inc., Automotive Department | Battle Creek, MI | June 10, 2009.
74,537 | Polyair Corporation, Leased from Callos Companies and Snelling Staffing | Youngstown, OH | August 13, 2009.
74,573 | Kok's Woodgoods, Inc., Tenon Limited; Leased Workers from Adecco | Zeeland, MI | August 26, 2009.
74,648 | Bosch Packaging Technology, Inc. (PAUD), PA-PM Division; Applied Engineering and Corporate Services | New Richmond, WI | September 16, 2009.
74,786 | Alexvale Furniture Company, Upholstery Division; Kincaid Furniture Company; La-z-Boy Chair Company | Taylorsville, NC | September 6, 2010.
74,786A | Leased Workers from Onin Temporary Staffing Solutions, On-Site at Alexvale Furniture Company; Upholstery Division; etc. | Taylorsville, NC | October 26, 2009.

The following certifications have been issued. The requirements of Section 222(a)(2)(B) (shift in production or services) of the Trade Act have been met.

TA-W No. | Subject firm | Location | Impact date
74,000 | International Business Machines (IBM), Global Business Services, Global Supply, Registration Database | Endicott, NY | October 7, 2008.
74,484 | New York Wire Co., Walterboro Fiberglass Products, Leased Workers from Staff Mark & SC Voc. Rehab | Walterboro, SC | August 2, 2009.
74,575 | International Business Machines (IBM), Global Sales Operations Organization; One Teleworker, etc | Charleston, WV | August 25, 2009.
74,575A | International Business Machines (IBM), Global Sales Operations Organization; One Teleworker, etc | Dallas, TX | August 25, 2009.
74,575B | International Business Machines (IBM), Global Sales Operations Organization; Two Teleworkers, etc | Atlanta, GA | August 25, 2009.
74,575C | International Business Machines (IBM), Global Sales Operations Organization; One Teleworker, etc | Phoenix, AZ | August 25, 2009.
74,647 | Regent Group, Inc., Encore Marketing; Express Employment, Blue Ridge | Blue Ridge Summit, PA | September 16, 2009.
74,671 | Hewlett Packard, Global Parts Supply Chain, Teleworkers, etc | Houston, TX | September 23, 2009.
74,673 | Los Angeles Daily News Publishing Company, Pre-Press Department | San Bernardino, CA | September 22, 2009.
74,678 | Primus International, Inc., Aurburn Division; Leased Workers from Aerotek | Algona, WA | September 27, 2009.
74,685 | Coats American, Inc., Leased Workers from Allen & Assoc of America | Charlotte, NC | September 28, 2009.
74,768 | Fortune Fashions Industries, LLC, Leased Workers from Temp Depot | Vernon, CA | October 12, 2009.
74,793 | Nicholson File Company, Apex Tool Group, LLC | Cullman, AL | October 27, 2009.
74,807 | UView Ultraviolet Systems, Inc., Some Wages Reported Under Motorvac Technologies, Inc | Santa Ana, CA | October 27, 2009.
74,815 | Areva NP, Inc., Fuel Business, Newport News Industry and System One Services | Lynchburg, VA | October 25, 2009.
74,818 | Tubular Metal Systems, LLC, Global Automotive Systems, LLC | Pinconning, MI | October 25, 2009.

The following certifications have been issued. The requirements of Section 222(c) (supplier to a firm whose workers are certified eligible to apply for TAA) of the Trade Act have been met.

TA-W No. | Subject firm | Location | Impact date
73,480 | Stant USA Corp., Formerly Known as Stant Manufacturing, Inc | Connersville, IN | January 21, 2009.
74,356 | Industrial Technologies Corporation | Missoula, MT | July 2, 2009.
74,468 | Cameron International, Division of Process and Compression Systems, Leased Workers EGW Personnel | Buffalo, NY | July 5, 2009.
74,627 | World Wide Technology, Leased Workers from Prologistics | Greensboro, NC | September 13, 2009.
74,693 | UFE, Inc., Leased Workers Job Connection and DM Dickason | El Paso, TX | September 20, 2009.

Negative Determinations for Worker Adjustment Assistance

In the following cases, the investigation revealed that the eligibility criteria for worker adjustment assistance have not been met for the reasons specified.

The investigation revealed that the criteria under paragraphs (a)(2)(A) (increased imports) and (a)(2)(B) (shift in production or services to a foreign country) of section 222 have not been met.

TA-W No. | Subject firm | Location | Impact date
73,018 | Smurfit-Stone Container Corporation, Container Division | Mansfield, OH |
73,624 | YRC, Inc., YRC Worldwide, Inc. | Columbus, OH |
73,714 | Interscope Manufacturing, Inc. | Middletown, OH |
73,925 | Bunge Milling, Inc., Bunge North America, Inc., Leased Workers from Initial Security and Eurofin | Danville, IL |
74,689 | Amdocs, Inc., Global Support Services, Advertising and Media AT&T Division | New Haven, CT |
74,692 | Bank of America, Centralized Sales Payment Office | Charlotte, NC |
74,721 | Dillard's, Inc., Information Technology Division | Little Rock, AR |
74,767 | Wausau Daily Herald, Advertising Production Division, Gannett Co., Inc | Wausau, WI |

Determinations Terminating Investigations of Petitions for Worker Adjustment Assistance

After notice of the petitions was published in the Federal Register and on the Department's Web site, as required by Section 221 of the Act (19 USC 2271), the Department initiated investigations of these petitions.

The following determinations terminating investigations were issued because the petitioner has requested that the petition be withdrawn.

TA-W No. | Subject firm | Location | Impact date
74,639 | Intellectual Ventures | Bellevue, WA |

The following determinations terminating investigations were issued in cases where these petitions were not filed in accordance with the requirements of 29 CFR. 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
74,194 | After Six | Athens, GA |

The following determinations terminating investigations were issued because the petitioning groups of workers are covered by active certifications. Consequently, further investigation in these cases would serve no purpose since the petitioning group of workers cannot be covered by more than one certification at a time.

TA-W No. | Subject firm | Location | Impact date
74,346 | Warner Brothers Entertainment Company | Burbank, CA |
74,791 | Butternut One Ltd., Cranberry Hardwoods, Inc | Beckley, WV |
74,792 | Greenbrier Forest Products, Inc., Cranberry Hardwoods, Inc | Smoot, WV |
74,805 | Cranberry Resources, LLC, Cranberry Hardwoods, Inc | Beckley, WV |
74,806 | Cranberry Hardwoods, Inc | Beckley, WV |
74,826 | Cranberry Lumber Company | Newport, OH |

I hereby certify that the aforementioned determinations were issued during the period of November 8, 2010 through November 12, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: November 16, 2010.
Elliott S. Kushner,
Certifying Officer, Division of Trade Adjustment Assistance.

[FR Doc. 2010-29426 Filed 11-22-10; 8:45 am]

BILLING CODE 4510-FN-P